JUDICIAL CONFERENCE OF THE UNITED STATES

Meeting of the Judicial Conference Advisory Committee on Rules of Appellate Procedure

AGENCY: Judicial Conference of the United States Advisory Committee on Rules of Appellate Procedure.

ACTION: Notice of Open Meeting.

SUMMARY: The Advisory Committee on Rules of Appellate Procedure will hold a two-day meeting. The meeting will be open to public observation but not participation.

DATES: October 13-14, 2011.

TIME: 8:30 a.m. to 5 p.m.

ADDRESSES: Ritz Carlton—Buckhead, 3434 Peachtree Road, NE., Atlanta, GA 30326.

FOR FURTHER INFORMATION CONTACT: Peter G. McCabe, Secretary. Rules Committee Support Office, Administrative Office of the United States Courts, Washington, DC 20544, telephone (202) 502-1820.

Dated: May 5, 2011.
Gale B. Mitchell,
Rules Committee Support Office.

[FR Doc. 2011-11384 Filed 5-9-11; 8:45 am]

BILLING CODE 2210-55-P